DEPARTMENT OF HEALTH AND HUMAN SERVICES

Centers for Disease Control and Prevention

[30DAY-53-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Factors and Strategies that are Effective in Establishing Policy and Environmental Interventions Designed to Promote Good Nutrition and Physical Activity—New—The National Center for Chronic Disease Prevention and Health Promotion (NCCDPHP), Centers for Disease Control and Prevention (CDC), proposes to conduct a study to determine what is needed to implement and sustain policy and environmental interventions to promote physical activity and good nutrition for cardiovascular health. Policy and environmental intervention approaches to promoting physical activity and good nutrition are a new paradigm shift for intervention activities, therefore, research is required to determine what is needed to implement and sustain these types of interventions.

The proposed study will be conducted in three phases. Phase 1 Background Information: A review will be conducted of the literature of national conferences to identify experts in the field of policy and environmental interventions to promote physical activity and good nutrition. Phase 2 Expert Interviews: State representatives, recognized experts, and others will be contacted via telephone to gather detailed information on both successful and promising environmental and policy interventions. Phase 3 Key Informant Interviews: Key informant interviews will be conducted with selected interventions and programs that were indicated in Phases 1 and 2 to identify activities, methods, and lessons learned for their successful implementation. We will summarize and evaluate interview results and disseminate to cardiovascular health funded States to assist in designing policy and environmental interventions to promote physical activity and good nutrition. Total annualized burden for this data collection is 22.5 hours.

Respondents | No. of respondents | No. of responses/respondent | Average burden per response (in hours)
Expert Interviews | 40 | 1 | 15/60
Key Informant Interviews | 25 | 1 | 30/60

Dated: September 28, 2001.
Nancy E. Cheal,
Acting Associate Director for Policy, Planning and Evaluation Centers for Disease Control and Prevention.

[FR Doc. 01-25072 Filed 10-4-01; 8:45 am]

BILLING CODE 4163-18-P